ENVIRONMENTAL PROTECTION AGENCY

[ER-FRL-6252-2]

Environmental Impact Statements and Regulations; Availability of EPA Comments

Availability of EPA comments prepared February 28, 2000 Through March 03, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 09, 1999 (63 FR 17856).

Draft EISs

ERP No. D-AFS-L65341-OR Rating EC2, Tower Fire Recovery Project, Restoration and Salvage, Implementation, Umatilla National Forest, North Fork John Day Ranger District, Umatilla and Grant Counties, OR.

Summary: EPA expressed concerns with the lack of information on related TMDL efforts by the Oregon Dept. of Environmental Quality, and the potential impacts to federally listed salmonid species, especially increased sedimentation and habitat fragmentation from current and proposed roads.

ERP No. D-BLM-J65318-00 Rating EC2, Montana, North Dakota and Portions of South Dakota Off-Highway Vehicle Management and Plan Amendment, Implementation, MT, ND and SD.

Summary: EPA expressed environmental concerns due to potential adverse impacts to water quality, wetlands and endangered species habitat from non-system roads and user exemptions. The final EIS should include information related to monitoring, enforcement and an inventory of non-system roads. EPA suggests that the selected alternative consider the exclusion of non-system roads and trails for OHV access prior to site-specific analysis to identify appropriate use areas.

ERP No. D-BLM-L65339-OR Rating LO, North Bank Habitat Management Area (NBHMA)/Area of Critical Environmental Concern (ACEC), Federally Endangered Columbian White-Tailed Deer (CWTD) and Special Status Species Habitat Enhancements to Ensure Viability Over Time, Implementation, OR.

Summary: EPA expressed lack of objections and expects that road restrictions, trail maintenance, camping restrictions and environmental education programs will help improve deer habitat while maintaining recreation opportunities within the area.

ERP No. D-FHW-D40303-PA Rating EC2, Mon/Fayette Transportation Project, Improvements from Uniontown to Brownsville Area, Funding and COE Section 404 Permit, Fayette and Washington Counties, PA.

Summary: EPA expressed concern due to potential impacts on cultural/natural resources and residential/commercial properties. EPA requested that the final document provide additional mitigation to avoid/protect aquatic and terrestrial resources.

ERP No. D-NPS-J65319-UT Rating LO, Zion National Park, General Management Plan, Implementation, Washington, Iron and Kane Counties, UT.

Summary: EPA has no objection to the proposed action.

ERP No. DS-FHW-G40145-00 Rating LO, US 71 Highway Improvement Project, Updated Information, between Texarkana, (US71) Arkansas and DeQueen, Texarkana Northern Loop Funding, Right-of-Way Approval and COE Section 404 Permit, Little River, Miller and Sevier Counties, AR and Bowie County, TX.

Summary: EPA's previous review indicated that there was no objection to the preferred alternative. EPA has no objections to the two new alternatives now identified in the document.

ERP No. DS-UAF-E11032-FL Rating EO2, Homestead Air Force Base (AFB) Disposal and Reuse Updated and Additional Information on Disposal of Portions of the Former Homestead (AFB), Implementation, Dade County, FL.

Summary: EPA objects to the proposed action to convert the former HAFB into a commercial regional airport. EPA believes that siting a commercial airport between the Everglades and Biscayne National Parks is inappropriate and strongly recommend an environmentally sensitive mixed use alternative be selected as the preferred alternative. Of the presented alternatives, EPA believes that the Collier Mixed Use Proposal with some modifications and assurances is the environmentally preferred alternative and should be pursued further in the final EIS.

Final EISs

ERP No. F-BLM-G65051-NM New Mexico Standards for Public Land Health and Guidelines for Livestock Grazing Management, Implementation, NM.

Summary: EPA had no objections to the proposed action.

ERP No. F-COE-E39051-FL Lake Okeechobee Regulation Schedule Study, To Maintain or Improve Existing Water Storage, St. Lucie and Caloosahatchee River Estuaries, FL.

Summary: EPA continue to express concern regarding the lack of a comprehensive downstream monitoring program. EPA requested the ROD commit to a monitoring program and that the acquired data be shared with involved state and federal agencies in determining the effects of short-term phosphorous increases on the Everglades Protection Area.

ERP No. F-FHW-F40380-IN IN-641 Terre Haute Bypass, Improve access between US 41 South to I-70 East of Terre Haute, Funding and COE Section 404 Permit, Vigo County, In.

Summary: EPA's previous issues were resolved, therefore EPA has no objection to the action as proposed.

ERP No. F-FHW-G50008-00 Great River Bridge, Construction, US 65 in Arkansas to MS-8 in Mississippi, Funding, COE Section 404 Permit and US Coast Guard Bridge Permit, Desha and Arkansas Counties, AR and Bolivar County, MS.

Summary: EPA's previous issues have been resolved, therefore EPA has no objection to the selection of the Southern Alternative as the preferred transportation corridor.

ERP No. F-FHW-J40150-ND Interstate 29 Reconstruction Project, Improvements from Rose Coulee to Cass County Road No. 20, Funding, City of Fargo, ND.

Summary: No formal comment letter was sent to the preparing agency.

ERP No. F-FHW-K40193-CA I-215 Improvements, Orange Show Road to CA-30, Funding, City of San Bernardino, San Bernardino County, CA.

Summary: EPA expressed continued concern that cumulative impacts were not fully addressed. EPA requested that additional comments on air and water quality mitigation, solid waste, pollution prevention, and cumulative impacts be addressed in the Record of Decision.

ERP No. F-FRC-J05079-00 Cabinet Gorge (No. 2058-014) and Noxon Rapids (No. 2075-014) Hydroelectric Project, Relicensing, MT and ID.

Summary: EPA recommended that FERC include a minimum flow release from Noxon Rapids Dam to reduce the magnitude of flow, velocity, and depth fluctuations in the river channel below Noxon Rapids Dam. EPA also recommended that the recommended measures, terms and conditions of the US Fish and Wildlife Service to minimize an incidental take of the bull trout be included as FERC license conditions.

ERP No. F-NPS-D61051-VA Booker T. Washington National Monument (BOWA), General Management Plan, Implementation, Franklin County, VA.

Summary: EPA's previous issues have been adequately addressed, therefore EPA no objection to the action as proposed.

ERP No. F-UAF-G11038-00 Realistic Bomber Training Initiative, Improve the B-52 and B-1 Aircrews Mission Training and Maximize Combat Training Time, Barksdale Air Force Base, LA, NM and TX.

Summary: EPA has no objection to the action as proposed.

ERP No. F-USN-K11099-NV Fallon Naval Air Station (NAS), Proposal for the Fallon Range Complex Requirements, Federal and Private Lands, Churchill, Eureka, Lander, Mineral, Nye and Washoe Counties, NV.

Summary: No formal comment letter was sent to the preparing agency.

Dated: March 14, 2000.
B. Katherine Biggs,
Associate Director, NEPA Compliance Division, Office of Federal Activities.

[FR Doc. 00-6707 Filed 3-16-00; 8:45 am]

BILLING CODE 6560-50-U